DEPARTMENT OF JUSTICE

Notice of Lodging of Proposed Second Amended Consent Decree Under the Clean Water Act

On June 5, 2018, the Department of Justice lodged a proposed Second Amended Consent Decree with the United States District Court for the Northern District of Ohio in the lawsuit entitled United States v. City of Akron, Ohio, et al., Civil Action No. 09-cv-00272.

In this action the United States, and the State of Ohio in a cross-claim, sought civil penalties and injunctive relief for violations of the Clean Water Act, 33 U.S.C. 1251 et seq., in connection with the City of Akron's (“Akron's” or “City's”) operation of its municipal wastewater treatment facility and sewer system. Under the Consent Decree, which was approved by the Court in January 2014, Akron was required to develop and implement a comprehensive plan to address overflows from its combined sewer system and bypasses around secondary treatment at the wastewater treatment facility. That plan, known as the “Long Term Control Plan Update” (“LTCP Update”), which was approved by the United States in November 2011 and the State of Ohio in April 2012, sets forth specific projects that the City is required to implement, and identifies dates for completion of these projects.

The proposed amendment modifies provisions of the 2014 Consent Decree that are set forth in the City's LTCP Update. Specifically, the proposed amendment would permit the City to install a different biologically enhanced high rate treatment technology to address remaining secondary bypasses at its wastewater treatment plant; the 2014 Consent Decree requires the City to use a BioActiflo system, whereas the proposed amendment would allow it to use a BioCEPT system instead. The proposed amendment also addresses requirements for four storage basins in the City's sewer collection system. The City would increase the size of one of the storage basins, and would not be required to build the remaining basins. Instead, it would expand existing “underflow” pipes at those combined sewer overflow (“CSO”) locations, which would allow it to optimize flow, increasing the amount of wastewater that it sends to the wastewater treatment plant. In addition, at three of the CSO locations, the City would install a variety of green infrastructure projects that are collectively capable of addressing specified volumes of stormwater.

The publication of this notice opens a period for public comment on the Second Amended Consent Decree. Comments should be addressed to the Assistant Attorney General, Environment and Natural Resources Division, and should refer to United States v. City of Akron, Ohio, et al., D.J. Ref. No. 90-5-1-1-3144/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Second Amendment to the Consent Decree may be examined and downloaded at this Justice Department website: https://www.justice.gov/enrd/consent-decrees. We will provide a paper copy of the proposed amendment to the Consent Decree upon written request and payment of reproduction costs. Please mail your request and payment to: Consent Decree Library, U.S. DOJ—ENRD, P.O. Box 7611, Washington, DC 20044-7611.

Please enclose a check or money order for $7.25 (25 cents per page reproduction cost) payable to the United States Treasury.

Randall M. Stone,
Acting Assistant Section Chief, Environmental Enforcement Section, Environment and Natural Resources Division.

[FR Doc. 2018-12521 Filed 6-11-18; 8:45 am]

BILLING CODE 4410-15-P